DEPARTMENT OF AGRICULTURE

Forest Service

Siskiyou (OR) Resource Advisory Committee

AGENCY: Forest Service, USDA.

ACTION: Notice of meetings.

SUMMARY: The Siskiyou (OR) Resource Advisory Committee (RAC) will meet in Brookings, Oregon. The committee is authorized under the Secure Rural Schools and Community Self-Determination Act (the Act) and operates in compliance with the Federal Advisory Committee Act. The purpose of the committee is to improve collaborative relationships and to provide advice and recommendations to the Forest Service concerning projects and funding consistent with Title II of the Act. RAC information can be found at the following website: https://cloudapps-usda-gov.secure.force.com/FSSRS/RAC_Page?id=001t0000002Jcv6AAC.

DATES: The meetings will be held on the following dates:

• Tuesday, June 11, 2019, from 1:00 p.m.-5:00 p.m.,

• Wednesday, June 12, 2019, from 8:00 a.m.-3:00 p.m., and

• Thursday, June 13, 2019, from 8:00 a.m.-3:00 p.m.

All RAC meetings are subject to cancellation. For updated status of the meeting prior to attendance, please contact the person listed under For Further Information Contact.

ADDRESSES: The meetings will be held at the Curry Campus of Southwestern Oregon Community College, in the Community Room #137, 96082 Lone Ranch Parkway, Brookings, Oregon.

Written comments may be submitted as described under Supplementary Information. All comments, including names and addresses, when provided, are placed in the record and are available for public inspection and copying. The public may inspect comments received at the Medford Interagency Office, 3040 Biddle Road, Medford, Oregon. Please call ahead at 541-618-2113 or email at vgibbons@fs.fed.us to facilitate entry into the building.

FOR FURTHER INFORMATION CONTACT: Virginia Gibbons RAC Coordinator, by phone at 541-618-2113 or by email at vgibbons@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The purpose of these meetings are to:

1. Approve minutes from April 25, 2017 meeting;

2. Review projects previously authorized under Title II of the Secure Rural Schools (SRS) Act; and

3. Review, discuss, and recommend proposed Title II projects under the current SRS Act reauthorization.

The meetings are open to the public. The agendas will include time for people to make oral statements of three minutes or less. Individuals wishing to make an oral statement should request in writing by June 7, 2019, to be scheduled on the agendas for the June 11, 2019, June 12, 2019, and June 13, 2019 meetings. Anyone who would like to bring related matters to the attention of the committee may file written statements with the committee staff before or after the meetings. Written comments and requests for time to make oral comments must be sent to Virginia Gibbons, RAC Coordinator, 3040 Biddle Road, Medford, Oregon 97504; by email to vgibbons@fs.fed.us, or by facsimile at 541-618-2144.

Meeting Accommodations: If you are a person requiring reasonable accommodation, please make requests in advance for sign language interpreting, assistive listening devices or other reasonable accommodation. For access to the facility or proceedings, please contact the person listed in the section titled For Further Information Contact. All reasonable accommodation requests are managed on a case by case basis.

Dated: May 16, 2019.
Frank Beum,
Acting Associate Deputy Chief, National Forest System.

[FR Doc. 2019-10814 Filed 5-22-19; 8:45 am]

BILLING CODE 3411-15-P